DEPARTMENT OF HEALTH AND HUMAN SERVICES

Indian Health Service

Indians Into Medicine Program; Correction

AGENCY: Indian Health Services, HHS.

ACTION: Notice; correction.

SUMMARY: The Indian Health Service published a document in the Federal Register on May 18, 2001, concerning an application deadline of June 1, 2001, for the Indians Into Medicine Program. The document contained an incorrect deadline date.

FOR FURTHER INFORMATION CONTACT: Ms. Jacqueline Santiago, Chief, Loan Repayment Branch, Division of Health Professions Support, Indian Health Service, 12300 Twinbrook Parkway, Suite 100A, Rockville, MD 20852, Telephone 301-443-3396. (This is not a toll-free number.)

Correction

In the Federal Register of May 18, 2001, in FR Doc. 01-12529, on page 27665, in the third column, correct the Dates caption to read:

DATES: A. Application Receipt Date—An original and two (2) copies of the completed grant application must be submitted with all required documentation to the Grants Management Branch, Division of Acquisition and Grants Management, Twinbrook Building, Suite 100, 12300 Twinbrook Parkway, Rockville, Maryland 20852, by close of business June 18, 2001.

Dated: March 29, 2001.
Michel E. Lincoln,
Deputy Director.

[FR Doc. 01-13987 Filed 6-4-01; 8:45 am]

BILLING CODE 4160-16-M